DEPARTMENT OF TRANSPORTATION

National Highway Traffic Safety Administration

[Docket No. NHTSA-2004-19217; Notice 1]

Mitsubishi Motor Sales Caribbean, Inc., Receipt of Petition for Decision of Inconsequential Noncompliance

Mitsubishi Motor Sales Caribbean, Inc. (MMSC) has determined that certain vehicles that it imported and distributed in 1997 through 2005 do not comply with S4.5.1(b)(2)(ii), (c)(1) and (e)(1)(ii) of 49 CFR 571.208, Federal Motor Vehicle Safety Standard (FMVSS) No. 208, “Occupant Crash Protection.” MMSC has filed an appropriate report pursuant to 49 CFR part 573, “Defect and Noncompliance Reports.”

Pursuant to 49 U.S.C. 30118(d) and 30120(h), MMSC has petitioned for an exemption from the notification and remedy requirements of 49 U.S.C. chapter 301 on the basis that this noncompliance is inconsequential to motor vehicle safety.

This notice of receipt of MMSC's petition is published under 49 U.S.C. 30118 and 30120 and does not represent any agency decision or other exercise of judgment concerning the merits of the petition.

A total of approximately 85,065 model year 1998 to 2005 Mitsubishi vehicles are affected. Approximately 70,592 Monteros, Nativas, Diamantes, Mirages, Lancers, and Outlanders covering model years from 1998 to 2005 do not comply with S4.5.1(b)(2)(ii), “Sun visor air bag warning label.” Approximately 10,761 Nativas covering model years 2000—2004 do not comply with S4.5.1(c)(1), “Air bag alert label.” Approximately 85,065 Monteros, Nativas, Diamantes, Mirages, Lancers, 3000 GTs, Outlanders, Galants, Eclipses, Eclipse Spyders, and Endeavors covering model years 1998—2005 do not comply with S4.5.1(e)(1)(ii), “Label on the dashboard.”

The relevant requirements of FMVSS No. 208, S4.5.1, “Labeling and owner's manual information,” are as follows: “(b)(2)(ii) The message area [of the permanent sun visor air bag warning label] * * * shall be no less than 30 cm². * * * (c)(1) The message area [of the permanent sun visor air bag alert label] * * * shall be no less than 20 square cm. * * * (e)(1)(ii) The message area [of the temporary label on the dashboard] * * * shall be no less than 30 cm².”

On the affected vehicles, the actual measurement of the English message area for the sun visor air bag warning label is 27 cm² rather than the required minimum of 30 cm², for the sun visor alert label is 12 cm² rather than the required minimum of 20 cm², and for the dash label is 19 cm² rather than the required minimum of 30 cm². MMSC explains that these noncompliances resulted from reducing the English message areas when the respective Spanish translations were added.

MMSC believes that the noncompliance is inconsequential to motor vehicle safety and that no corrective action is warranted. In support of its petition, MMSC states the following:

The likelihood consumers will perceive the presence of the labels is enhanced since the overall sizes of the bilingual labels are larger than the English only labels while the understandability performance of the warnings is enhanced since the message reaches a wider audience than an English only version.

The legibility of the labels at the required distance (i.e., from all front seating positions) is not degraded since the font size, font color, and letter spacing remain the same as our English only versions that meet the message area requirements.

The labels meet all other requirements in every respect including heading content, heading color, message content, message area color, message text color, alert symbol content, and alert symbol color. * * *

Mitsubishi believes the percentage of vehicles actually fitted today with the non-compliant temporary dash labels is for all intents and purposes zero, considering in all likelihood they have already been removed by customers after purchase.

MMSC has received no customer complaints related to the bilingual labels.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: November 8, 2004.

Authority: 49 U.S.C. 30118, 30120: delegations of authority at CFR 1.50 and 501.8

Issued on: September 30, 2004.
Kenneth N. Weinstein,
Associate Administrator for Enforcement.

[FR Doc. 04-22621 Filed 10-7-04; 8:45 am]

BILLING CODE 4910-59-P